DEPARTMENT OF THE INTERIOR

Bureau of Land Management

[LLNVC02000.L14300000.E0000; NVN082004; 13-08807; MO#4500054972]

Notice of Realty Action: Classification and Segregation for Conveyance for Recreation and Public Purposes for a Sewage Treatment Facility; Partial Termination of Recreation and Public Purposes Classification of Public Lands in Storey County, NV

AGENCY: Bureau of Land Management, Interior.

ACTION: Notice.

SUMMARY: The Bureau of Land Management (BLM), Carson City District, Nevada, has examined and found suitable for classification for conveyance approximately 12.38 acres of public land in Storey County, Nevada, under the provisions of the Recreation and Public Purposes (R&PP) Act, as amended (NVN 082004). Storey County proposes to use the land for a sewage treatment facility to serve Virginia City, Nevada. This notice terminates the previous classification of a portion of land for conveyance under NVN 046965.

DATES: Interested parties may submit written comments regarding the proposed classification or conveyance on or before December 9, 2013.

ADDRESSES: Send written comments to Leon Thomas, Field Manager, BLM Sierra Front Field Office, 5665 Morgan Mill Rd., Carson City, NV 89701.

FOR FURTHER INFORMATION CONTACT: Erik Pignata, Realty Specialist, at the address in the ADDRESSES section or by telephone at 775-885-6110 or email at epignata@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Storey County filed an R&PP application to use public land to authorize and expand an existing sewage treatment facility in order to facilitate increased growth in the area and allow proposed system upgrades. The parcel of land is legally described as:

Mount Diablo Meridian, Nevada

T. 17 N., R. 21 E.

Sec. 28, Lots 38, 39, 43, 45.

The area described contains 12.38 acres more or less in Storey County.

A portion of the land was previously classified under NVN 046965 on behalf of an R&PP application submitted by the Storey County School District for authorization of the Virginia City High School. This notice terminates that classification NVN 046965 so far as it affects lands identified as Section 28, T. 17 N., R. 21 E., and classifies all the lands described above as suitable for the proposed use and conveyance for a sewage treatment facility.

The land is not required for any Federal purpose. The proposed conveyance is consistent with the BLM Carson City Field Office Consolidated Resource Management Plan dated May 2001, and would be in the public interest.

The conveyance, if issued, would be subject to the provisions of the R&PP Act and applicable regulations of the Secretary of the Interior, including, but not limited to, 43 CFR Part 2743, and would be subject to the following terms, conditions, and reservations to the United States:

1. A right-of-way thereon for ditches and canals constructed by the authority of the United States, Act of August 30, 1890 (43 U.S.C. 945);

2. All minerals shall be reserved to the United States, together with the right to prospect for, mine and remove such deposits from the same under applicable law and such regulations as the Secretary of the Interior may prescribe;

3. A right-of-way for a power line granted to Sierra Pacific Power Company, its successors or assigns, by right-of-way NVN 077704 pursuant to the Act of October 21, 1976 (31 Stat. 0790, 43 U.S.C. 959); and

4. Valid existing rights.

An indemnification clause protecting the United States from claims arising out of the patentee's use, occupancy, or operations on the land has been executed by Storey County and will be included in the patent when issued.

A limited reversionary provision states that the title shall revert to the United States upon a finding, after notice and opportunity for a hearing, that the patentee has not substantially developed the land in accordance with the approved plan of development 5 years after the date of conveyance. No portion of the land shall under any circumstances revert to the United States if any such portion has been used for waste disposal or for any other purpose which may result in the disposal, placement, or release of any hazardous substance.

Upon publication of this notice in the Federal Register, the parcel will be segregated from all other forms of appropriation under the public land laws, including the United States general mining laws, except for conveyance under the R&PP Act, leasing under the mineral leasing laws and disposals under the mineral material disposal laws.

Interested persons may submit comments involving the suitability of the land for development for a sewage treatment facility. Comments on the classification are restricted to whether the land is physically suited for the proposal, whether the use will maximize the future use or uses of the land, whether the use is consistent with local planning and zoning, or whether the use is consistent with State and Federal programs.

Interested persons may submit comments, including notification of any encumbrances or other claims relating to the parcel, regarding the specific use proposed in the application and plan of development, whether the BLM followed appropriate administrative procedures in reaching a decision to convey under the R&PP Act, or any other factors not directly related to the suitability of the land for sewage treatment facility purposes.

Documents related to this action are on file at the BLM Sierra Front Field Office at the address in the ADDRESSES section and may be reviewed by the public upon request.

Before including your address, phone number, email address, or other personal identifying information in your comment, you should be aware that your entire comment—including your personal identifying information—may be made publicly available at any time. While you can ask us in your comment to withhold your personal identifying information from public review, we cannot guarantee that we will be able to do so. Only written comments submitted by postal service or overnight mail to the Field Manager, BLM Sierra Front Field Office, will be considered properly filed.

Any adverse comments will be reviewed by the BLM Nevada State Director who may sustain, vacate, or modify this realty action. In the absence of any adverse comments, this realty action will become effective December 24, 2013. The land would not be offered for conveyance until after the classification becomes effective.

Authority: 43 CFR 2741.

Leon Thomas,
Field Manager, Sierra Front Field Office.

[FR Doc. 2013-25152 Filed 10-24-13; 8:45 am]

BILLING CODE 4310-HC-P